DEPARTMENT OF THE INTERIOR

National Park Service

[NPS-WASO-VRP-WS-15009; PPWOVPADW0, PPMPRLE1Y.LB0000]

Information Collection Request Sent to the Office of Management and Budget (OMB) for Approval; Backcountry Use Permit

AGENCY: National Park Service, Interior.

ACTION: Notice; request for comments.

SUMMARY: We (National Park Service) have sent an Information Collection Request (ICR) to OMB for review and approval. We summarize the ICR below and describe the nature of the collection and the estimated burden and cost. This information collection is scheduled to expire on February 28, 2014. We may not conduct or sponsor and a person is not required to respond to a collection of information unless it displays a currently valid OMB control number. However, under OMB regulations, we may continue to conduct or sponsor this information collection while it is pending at OMB.

DATES: You must submit comments on or before March 28, 2014.

ADDRESSES: Send your comments and suggestions on this information collection to the Desk Officer for the Department of the Interior at OMB—OIRA at (202) 395-5806 (fax) or OIRA_Submission@omb.eop.gov (email). Please provide a copy of your comments to Madonna L. Baucum, Information Collection Clearance Officer, National Park Service, 1849 C Street NW. (2601), Washington, DC 20240 (mail); or madonna_baucum@nps.gov (email). Please include “1024-0022” in the subject line of your comments.

FOR FURTHER INFORMATION CONTACT: To request additional information about this ICR, contact Robert Danno at Robert_Danno@nps.gov (email) or at 406-647-7010 (telephone). You may review the ICR online at http://www.reginfo.gov. Follow the instructions to review Department of the Interior collections under review by OMB.

SUPPLEMENTARY INFORMATION:

OMB Control Number: 1024-0022.

Title: Backcountry Use Permit, 36 CFR 1.5, 1.6, and 2.10.

Service Form Number(s): 10-404A.

Type of Request: Revision of a currently approved collection.

Description of Respondents: Individuals.

Respondent's Obligation: Required to obtain or retain a benefit.

Frequency of Collection: On occasion.

Activity | Number of respondents | Number of annual responses | Completion time per response (minutes) | Total annual burden hours
Form 10-404A | 285,000 | 285,000 | 5 | 23,750
Totals | 285,000 | 285,000 | 5 | 23,750

Estimated Annual Nonhour Burden Cost: None.

Abstract: In 1976, we initiated a backcountry registration system in accordance with the regulations found at Title 36, Code of Federal Regulations, Sections 1.5, 1.6, and 2.10. The backcountry use permit system provides users access to backcountry areas of national parks with continuing opportunities for solitude, while enhancing resource protection and providing a means of disseminating public safety messages regarding backcountry travel.

The Backcountry Use Permit is an extension of our statutory authority and responsibility to protect the park areas we administer and to manage the public use thereof (Title 16 United States Code, Sections 1 and 3 (16 U.S.C. 1 and 3)). NPS regulations codified in 36 CFR 1-7, 12, and 13, are designated to implement statutory mandates that provide for resource protection and public enjoyment.

The Backcountry Use Permit (NPS Form 10-404A) is the primary form used to implement a backcountry reservation system and provide access into backcountry and designated wilderness areas where registration is required or limits are imposed in accordance with regulations. Such permitting enhances the ability of the National Park Service (we, NPS) to issue hazard warnings, conduct search and rescue efforts, and provide mission based resource protection.

The objectives of the permit system are to ensure: (1) requests by backcountry users are evaluated by park managers in accordance with applicable statutes and NPS regulations; (2) use of consistent standards and permitting criteria throughout the agency; and (3) to the extent possible, use of a single and efficient permitting document.

Forms will be provided by the parks and will be available at backcountry reservation offices in the parks. Respondents complete the form as they reach the trailhead or backcountry reservation office and before beginning their backcountry hike. A copy is retained by the respondent, and a copy is retained by the park. Backcountry users only need to fill the form out when they enter the backcountry for overnight stays. Day users will not be required to complete the form.

Not all parks will use the form and some parks may collect the information using a nonform format (through discussions in person or over the phone, by sign-in sheet or self-registration system, by email, or by post card). In some instances, respondents will be able to provide information verbally. Because of the span of activities and the different management needs and resources at each park, respondents may not be required to answer all questions. Depending on the requested activity, park staff will have the discretion to ask for less information than appears on the proposed form. However, park staff may not ask for more or different information.

Comments: On April 2, 2013, we published in the Federal Register (78 FR 19732) a notice of our intent to request that OMB renew approval for this information collection. In that notice, we solicited comments for 60 days, ending June 3, 2013.

We received one comment. The comment was confined to issues at Grand Canyon National Park, specifically the aircraft overflight issue. The commenter suggested that NPS require backcountry permits be issued to individuals who participate in private scenic air tours over park lands. These excursions are short-term (1 hour or less) flights that originate outside the park. Although the flights often take place over park lands, the NPS does not have authority over airspace, which is under the authority of the Federal Aviation Administration. We did not make any changes to our information collection requirements.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 21, 2014.
Doris Lowry,
Acting Information Collection Clearance Officer, National Park Service.

[FR Doc. 2014-04175 Filed 2-25-14; 8:45 am]

BILLING CODE 4310-EH-P